ENVIRONMENTAL PROTECTION AGENCY

[EPA-R09-RCRA-2007-0369; FRL-8328-4]

Adequacy of California Municipal Solid Waste Landfill Permit Program

AGENCY: Environmental Protection Agency (EPA).

ACTION: Notice of Tentative Determination of Adequacy and Opportunity to Comment.

SUMMARY: The Environmental Protection Agency Region IX is proposing to approve a modification to California's municipal solid waste landfill (MSWLF) permit program to allow the State to issue research, development, and demonstration (RD&D) permits for new and existing MSWLF units and lateral expansions. The modification will allow the Director of the approved state program to provide a variance from certain MSWLF criteria, provided that the MSWLF owner/operator demonstrates that compliance with the RD&D permit will not increase risk to human heath and the environment. The Director may provide a variance from existing requirements of MSWLF criteria for run-on control systems, liquids restrictions, and final cover. EPA is seeking public comment on its tentative determination of adequacy of California's RD&D modification to its MSWLF permit program.

DATES: Comments must be received on or before August 13, 2007. EPA will hold a public hearing on August 13, 2007 in the first floor conference room of EPA Region IX, 75 Hawthorne Street, San Francisco, California, if sufficient public interest is expressed. If by August 1, 2007, EPA does not receive sufficient public interest for a public hearing, EPA may cancel the public hearing with no further notice. If you are interested in attending the public hearing, contact Karen Ueno at (415) 972-3317 to verify that a hearing will be held.

ADDRESSES: Submit your comments, identified by Docket ID No. EPA-R09-RCRA-2007-0369 by one of the following methods:

• http://www.regulations.gov: Follow the on-line instructions for submitting comments.

• E-mail: ueno.karen@epa.gov.

• Fax: (415) 947-3530.

• Mail: Karen Ueno (WST-7), Environmental Protection Agency Region IX, 75 Hawthorne Street, San Francisco, CA 94105-3901.

• Hand Delivery: Environmental Protection Agency Region IX, 75 Hawthorne Street, San Francisco, CA 94105-3901. Such deliveries are only accepted during the Docket's normal hours of operation, and special arrangements should be made for deliveries of boxed information.

Instructions: Direct your comments to Docket ID No. EPA-R09-RCRA-2007-0369. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other materials, such as the State's prior applications for MSWLF permit program approval, are available only in hard copy. Publicly available docket materials are available either electronically in http://www.regulations.gov or in hard copy at the Environmental Protection Agency Region IX, 75 Hawthorne Street, San Francisco, CA 94105-3901. This Docket facility is open from 9 a.m. to 4 p.m., Monday through Thursday, excluding legal holidays. It is located in a secured building. To review docket materials at the Docket facility, it is recommended that the public make an appointment by calling the Docket facility at (415) 947-4406 during normal business hours.

FOR FURTHER INFORMATION CONTACT: Karen Ueno, Waste Management Division, WST-7, Environmental Protection Agency Region IX, 75 Hawthorne Street, San Francisco, CA 94105; telephone number: (415) 972-3317; fax number: (415) 947-3530; e-mail address: ueno.karen@epa.gov.

SUPPLEMENTARY INFORMATION:

I. General Information

A. Background

On March 22, 2004, EPA issued a final rule amending the municipal solid waste landfill criteria at 40 CFR 258.4 to allow for RD&D permits. (69 FR 13242). This rule allows for variances from specified criteria for a limited period of time. Specifically, the rule allows the Director of an approved State to issue a time-limited RD&D permit for a new MSWLF unit, existing MSWLF unit, or lateral expansion, for which the owner or operator proposes to use innovative and new methods which vary from either or both of the following: (1) The run-on control systems at 40 CFR 258.26, and/or (2) the liquids restrictions at 40 CFR 258.28(a), provided that the MSWLF unit has a leachate collection system designed and constructed to maintain less than a 30-cm depth of leachate on liner. The rule also allows the Director of an approved State to issue a time-limited RD&D permit for a MSWLF unit for which the owner or operator proposes to use innovative and new methods that vary from the final cover criteria at 40 CFR 258.60(a)(1) and (2), and (b)(1), provided that the owner or operator demonstrates that the alternative cover system will not contaminate groundwater or surface water, or cause leachate depth on the liner to exceed 30 cm. An RD&D permit cannot exceed three years and a renewal of an RD&D permit cannot exceed three years. Although multiple renewals of an RD&D permit can be issued, the total term for an RD&D permit including renewals cannot exceed twelve years.

RD&D permits are only available in states with approved MSWLF permit programs that have been modified to incorporate the RD&D permit authority. Although a state is not required to seek approval for the RD&D permit provision, a state must obtain EPA approval before it may issue such a permit. Requirements for state program determination of adequacy and approval procedures are contained in 40 CFR part 239.

In 1993, EPA Region IX approved the State of California's MSWLF permit program pursuant to Subtitle D of the Federal Resource Conservation and Recovery Act (RCRA). With its application, dated March 28, 2006, and revised on February 21, 2007, the State of California is seeking EPA approval for a modification to the State's existing MSWLF permit program to incorporate RD&D permits.

II. EPA's Action

A. Tentative Determination

After completing a thorough review, EPA is proposing to tentatively approve California's RD&D permit program modification. California has lawfully promulgated and fully enacted regulations for the RD&D permit program, and these regulations are adequate to ensure compliance with the federal criteria at 40 CFR 258.4. In conformance with the federal regulations, and in addition to California-specific requirements, an owner or operator is required to maintain less than a 30-cm depth of leachate on liner and demonstrate that compliance with the RD&D permit will not increase risk to human heath and the environment over compliance with a standard MSWLF permit.

Following the close of the public comment period and in consideration of comments received, EPA will issue a final determination. If approved, California will be able to issue variances for run-on control systems, liquid restrictions, and final cover criteria to allow for innovative and new methods, such as bioreactor landfills.

B. Submitting Comments on EPA's Tentative Determination

Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

Submitting Confidential Business Information (CBI). Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

Docket Copying Costs. Copying arrangements will be made through the Docket Facility and billed directly to the recipient. Copying costs may be waived depending on the total number of pages copied.

Authority: Sections 2002, 4005, and 4010(c) of the Solid Waste Disposal Act, as amended, 42 U.S.C. 6912, 6945, and 6949(a). Delegation 8-46. State/Tribal Permit Programs for Municipal Solid Waste Landfills.

Dated: June 6, 2007.
Wayne Nastri,
Regional Administrator, Region IX.

[FR Doc. E7-11773 Filed 6-18-07; 8:45 am]

BILLING CODE 6560-50-P